FEDERAL COMMUNICATIONS COMMISSION

47 CFR Part 73

[DA 01-2487; MM Docket No. 01-101; RM-10097]

Radio Broadcasting Services; St. Augustine and Neptune Beach, FL

AGENCY: Federal Communications Commission.

ACTION: Final rule.

SUMMARY: In response to a Notice of Proposed Rule Making, 66 FR 26825 (May 15, 2001), this document reallots Channel 250C2 from St. Augustine, Florida, to Neptune Beach, Florida, and provides Neptune Beach with its first local aural transmission service. The coordinates for Channel 250C2 at Neptune Beach are 30-16-53 North Latitude and 81-34-15 West Longitude.

DATES: Effective December 10, 2001.

FOR FURTHER INFORMATION CONTACT: R. Barthen Gorman, Mass Media Bureau, (202) 418-2180.

SUPPLEMENTARY INFORMATION: This is a synopsis of the Commission's Report and Order, MM Docket No. 01-101, adopted October 17, 2001, and released October 26, 2001. The full text of this Commission decision is available for inspection and copying during normal business hours in the FCC's Reference Information Center at Portals II, CY-A257, 445 12th Street, SW, Washington, DC. This document may also be purchased from the Commission's duplicating contractors, Qualex International, Portals II, 445 12th Street, SW, Room CY-B402, Washington, DC, 20554, telephone 202-863-2893, facsimile 202-863-2898, or via e-mail qualexint@aol.com.

List of Subjects in 47 CFR Part 73

Radio broadcasting.

Part 73 of Title 47 of the Code of Federal Regulations is amended as follows:

PART 73—RADIO BROADCAST SERVICES

1.The authority citation for Part 73 reads as follows:

Authority: 47 U.S.C. 154, 303, 334, and 336.

§ 73.202 [Amended]

1. Section 73.202(b), the Table of FM Allotments under Florida, is amended by adding Neptune Beach, Channel 250C2, and removing Channel 250C2 at St. Augustine.

Federal Communications Commission.
John A. Karousos,
Chief, Allocations Branch, Policy and Rules Division, Mass Media Bureau.

[FR Doc. 01-28205 Filed 11-8-01; 8:45 am]

BILLING CODE 6712-01-P